DEPARTMENT OF COMMERCE

International Trade Administration

[A-552-814]

Utility Scale Wind Towers From the Socialist Republic Vietnam: Final Results of Antidumping Duty Administrative Review; 2013-2014

AGENCY: Enforcement and Compliance, International Trade Administration, Department of Commerce.

SUMMARY: On March 9, 2015, the Department of Commerce (“the Department”) published the preliminary results of the administrative review of the antidumping duty order on utility scale wind towers from the Socialist Republic of Vietnam (“Vietnam”).¹ The period of review is February 13, 2013, through January 31, 2014. The review covers one respondent, CS Wind Vietnam and CS Wind Corporation (collectively, “CS Wind Group”). We continue to find that CS Wind Group has sold subject merchandise in the United States at below normal value during the POR.

¹ See Utility Scale Wind Towers From the Socialist Republic of Vietnam: Preliminary Results of Antidumping Duty Administrative Review; 2013-2014, 80 FR 12449 (March 9, 2015) (“Preliminary Results”).

DATES: Effective Date: September 15, 2015.

FOR FURTHER INFORMATION CONTACT: Trisha Tran AD/CVD Operations, Office IV, Enforcement and Compliance, International Trade Administration, U.S. Department of Commerce, 14th Street and Constitution Avenue NW., Washington, DC 20230, telephone: (202) 482-4852.

Background

On March 9, 2015, the Department published the Preliminary Results.² On June 3, 2015, the Department extended the deadline for issuing the final results by 60 days, until September 8, 2015. CS Wind Group, and the Wind Tower Trade Coalition (“Petitioner”) submitted case and rebuttal briefs on April 15, 2013 and April 23, 2015, respectively. Both parties participated in a public hearing on July 16, 2015.

² Id.

Scope of the Order

The merchandise covered by this order is certain wind towers, whether or not tapered, and sections thereof. Imports of the subject merchandise are provided for under the following subheadings of the Harmonized Tariff Schedule of the United States (“HTSUS”): 7308.20.00.20 ³ or 8502.31.00.00.⁴ Prior to 2011, merchandise covered by the order was classified in the HTSUS under subheading 7308.20.00.00 and may continue to be to some degree. While the HTSUS subheadings are provided for convenience and customs purposes, the written description of the scope of the order is dispositive. A full description of the scope of the order is contained in the Issues and Decision Memorandum, dated concurrently with and hereby adopted by this notice.⁵

³ Wind towers are classified under HTSUS 7308.20.0020 when imported as a tower or tower section(s) alone.

⁴ Wind towers may also be classified under HTSUS 8502.31.0000 when imported as part of a wind turbine (i.e., accompanying nacelles and/or rotor blades.

⁵ See Memorandum from Gary Taverman, Associate Deputy Assistant Secretary for Antidumping and Countervailing Duty Operations, to Paul Piquado, Assistant Secretary for Enforcement and Compliance, regarding “Issues and Decision Memorandum for the Final Results of the 2013-2014 Administrative Review of the Antidumping Duty Order on Utility Scale Wind Towers from the Socialist Republic of Vietnam” issued concurrently with this notice (“Issues and Decision Memorandum”).

Analysis of Comments Received

All issues raised in the case and rebuttal briefs are addressed in the Issues and Decision Memorandum. A list of the issues raised in the briefs and addressed in the Issues and Decision Memorandum is attached to this notice as an appendix. The Issues and Decision Memorandum is a public document and is on file electronically via Enforcement and Compliance's Antidumping and Countervailing Duty Centralized Electronic Service System (“ACCESS”). ACCESS is available to registered users at http://access.trade.gov and in the Central Records Unit, room B8024 of the main Department of Commerce building. In addition, a complete version of the Issues and Decision Memorandum can be accessed directly at http://enforcement.trade.gov/frn/. The paper copy and electronic version of the Issues and Decision Memorandum are identical in content.

Changes Since the Preliminary Results

Based on a review of the record and comments received from interested parties regarding our Preliminary Results, we made revisions to CS Wind Group's margin calculations. These changes are discussed in the Issues and Decision Memorandum and CS Wind Group's analysis memorandum.

Final Results of the Review

We determine that the following weighted-average dumping margin exists for the period of review from February 13, 2013 through January 31, 2014.

Exporter | Weighted- average dumping margin (percent)
The CS Wind Group | 0.00

Assessment Rates

The Department shall determine, and U.S. Customs and Border Protection (“CBP”) shall assess, antidumping duties on all appropriate entries covered by this review. The Department intends to issue assessment instructions to CBP 15 days after the publication date of these final results of this review pursuant to section 751(a)(2)(C) of the Tariff Act of 1930, as amended (“Act”) and 19 CFR 351.212(b). In accordance with 19 CFR 351.212(b)(1), we are calculating importer- (or customer-) specific assessment rates for the merchandise subject to this review.⁶ Where either the respondent's weighted-average dumping margin is zero or de minimis, or an importer-specific assessment rate is zero or de minimis, we will instruct CBP to liquidate the appropriate entries without regard to antidumping duties.⁷ For CS Wind Group, whose weighted average dumping margin is zero, the Department will instruct CBP to liquidate appropriate entries without regard to antidumping duties.⁸

⁶ See Antidumping Proceedings: Calculation of the Weighted Average Dumping Margin and Assessment Rate in Certain Antidumping Proceedings: Final Modification, 77 FR 8101 (February 14, 2012).

⁷ See 19 CFR 351.106 (c)(2).

⁸ See 19 CFR 351.212(b)(1).

On October 24, 2011, the Department announced a refinement to its assessment practice in NME cases.⁹ Pursuant to this refinement in practice, for entries that were not reported in the U.S. sales databases submitted by the company individually examined during this review, the Department will instruct CBP to liquidate such entries at the rate applicable to the Vietnam-wide entity (i.e., 58.54 percent). In addition, for companies for which the Department determined that the exporter under review had no shipments of the subject merchandise, any suspended entries that entered under that exporter's case number (i.e., at that exporter's rate) will be liquidated at the Vietnam-wide rate.

⁹ See Non-Market Economy Antidumping Proceedings: Assessment of Antidumping Duties, 76 FR 65694 (October 24, 2011), for a full discussion of this practice.

In accordance with section 751(a)(2)(C) of the Act, the final results of this review shall be the basis for the assessment of antidumping duties on entries of merchandise covered by the final results of this review and for future deposits of estimated duties, where applicable.

Cash Deposit Requirements

The following cash deposit requirements will be effective upon publication of these final results of this administrative review for all shipments of the subject merchandise from Vietnam, entered or withdrawn from warehouse, for consumption on or after the publication date, as provided for by section 751(a)(2)(C) of the Act: (1) For the exporters listed above, the cash deposit rate will be equal to the weighted-average dumping margin established in the final results of this review (except, if the rate is zero or de minimis, then a cash deposit rate of zero will be established for that company); (2) for previously investigated or reviewed Vietnam or non-Vietnam exporters not listed above that currently have a separate rate, the cash deposit rate will continue to be the exporter-specific rate published for the most the recently completed segment of this proceeding where the exporter received that separate rate; (3) for all Vietnam exporters of subject merchandise that have not been found to be entitled to a separate rate, the cash deposit rate will be the rate for the Vietnam-wide entity, 58.54 percent; and (4) for all non-Vietnam exporters of subject merchandise which have not received their own separate rate, the cash deposit rate will be the rate applicable to the Vietnam exporter that supplied that non-Vietnam exporter. These deposit requirements, when imposed, shall remain in effect until further notice.

Disclosure

We intend to disclose the calculations performed regarding these administrative review final results within five days of the date of publication of this notice in this proceeding in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Order (“APO”)

This notice also serves as a final reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing the final results of this review and notice in accordance with sections 751(a)(1) and 777(i) of the Act and 19 CFR 351.213.

Dated: September 8, 2015.
Paul Piquado,
Assistant Secretary for Enforcement and Compliance.

Appendix

List of Topics Discussed in Issues and Decision Memorandum

1. Summary

2. Background

3. Scope of the Order

4. Discussion of the Issues

Comment 1: Bona Fide Sale

Comment 2: Steel Plate

Comment 3: Market Economy Prices from Korea

Comment 4: Financial Statements

Comment 5: Flanges

Comment 6: Calculation of Market Economy Prices

5. Recommendation

[FR Doc. 2015-23155 Filed 9-14-15; 8:45 am]

BILLING CODE 3510-DS-P